ENVIRONMENTAL PROTECTION AGENCY

[ER-FRL-6618-2]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167.

Summary of Rating Definitions Environmental Impact of the Action Lo—Lack of Objections

The EPA review has not identified any potential environmental impacts requiring substantive changes to the proposal. The review may have disclosed opportunities for application of mitigation measures that could be accomplished with no more than minor changes to the proposal.

EC—Environmental Concerns

The EPA review has identified environmental impacts the should be avoided in order to fully protect the environment. Corrective measures may require changes to the preferred alternative or application of mitigation measures that can reduce the environmental impact. EPA would like to work with the lead agency to reduce these impacts.

EO—Environmental Objections

The EPA review has identified significant environmental impacts that must be avoided in order to provide adequate protection for the environment. Corrective measures may require substantial changes to the preferred alternative or consideration of some other project alternative (including the no action alternative or a new alternative). EPA intends to work with the lead agency to reduce these impacts.

EU—Environmentally Unsatisfactory

The EPA review has identified adverse environmental impacts that are of sufficient magnitude that they are unsatisfactory from the standpoint of public health or welfare or environmental quality. EPA intends to work with the lead agency to reduce these impacts. If the potentially unsatisfactory impacts are not corrected at the final EIS stage, this proposal will be recommended for referral to the CEQ.

Adequacy of the Impact Statement

Category 1—Adequate

EPA believes the draft EIS adequately sets forth the environmental impact(s) of the preferred alternative and those of the alternatives reasonably available to the project or action. No further analysis or data collection is necessary, but the reviewer may suggest the addition of clarifying language or information.

Category 2—Insufficient Information

The draft EIS does not contain sufficient information for EPA to fully assess environmental impacts that should be avoided in order to fully protect the environment, or the EPA reviewer has identified new reasonably available alternatives that are within the spectrum of alternatives analyzed in the draft EIS, which could reduce the environmental impacts of the action. The identified additional information, data, analyses, or discussion should be included in the final EIS.

Category 3—Inadequate

EPA does not believe that the draft EIS adequately assesses potentially significant environmental impacts of the action, or the EPA reviewer has identified new, reasonably available alternatives that are outside of the spectrum of alternatives analyzed in the draft EIS, which should be analyzed in order to reduce the potentially significant environmental impacts. EPA believes that the identified additional information, data, analyses, or discussions are of such a magnitude that they should have full public review at a draft stage. EPA does not believe that the draft EIS is adequate for the purposes of the NEPA and/or section 309 review, and thus should be formally revised and made available for public comment in a supplemental or revised draft EIS. On the basis of the potential significant impacts involved, this proposal could be a candidate for referral to the CEQ.

Draft EISs

ERP No. D-BLM-J65331-00 Rating E02, Williams, Questar, Kern River Pipeline Project, To Approve a Petroleum Products Pipeline, and one or two Natural Gas Pipelines and to Amend Forest Plan, UT, NM and CO.

Summary: EPA expressed environmental objections with the narrow range of alternatives, new construction activity in the Uinta NF roadless area, potential air impacts to Arches National Park and the lack of information disclosed on potentially connected actions. EPA supports efforts to reduce environmental impacts by locating pipelines in existing ROW corridors, avoid landslide areas and headwaters for sources of drinking water, slightly modify the ROW to project roadless areas and use directional drilling methods which may reduce impacts to wetlands and aquatic life.

ERP No. D-FAA-E51049-KY Rating EC2, Cincinnati/Northern Kentucky International Airport, Construction and Operation of a New 8,000-foot Runway 17/35 (Future 18R/36L); 2,000-foot Extension of Runway 9/27, Funding and Airport Layout Plan, (ALP) Boone County, KY.

Summary: EPA expressed concern about proposed noise mitigation, air quality analysis, and wetland/stream mitigation. use of adaptive management regarding the monitoring of noise contours is recommended to ensure accurate footprints once prospective operations are initiated and when substantive changes affecting airport noise occur.

ERP No. D-USA-D11031-MD Rating EC2, Fort George G. Meade Future Development and Operations of a New Administrative and Support Buildings, Anne Arundel and Howard Counties, MD.

Summary: EPA expressed concern regarding potential impacts due to increased base traffic. EPA encouraged Fort Meade to make a committed effort to institute traffic mitigation alternatives such as flextime, flexiplace and car pooling programs.

ERP No. DS-FAA-J51009-UT Rating EC2, Cal Black Memorial Airport Project, New and Updated Information for the Replacing of Halls Crossing Airport, within the boundary of Glen Canyon National Recreation, Halls Crossing, San Juan Counties, UT.

Summary: EPA has environmental concerns with the ongoing noise impacts especially when combined with enroute jet aircraft noise, and that additional information is needed in the final Supplemental EIS that establishes a threshold of significance for these cumulative noise impacts. In addition, EPA suggests that the connected action of the proposed BLM land transfer be analyzed in a revised supplemental EIS to provide analysis of BLM's proposed action for this same airport.

Final EISs

ERP No. F-AFS-J65321-MT Mill-Key-Wey Project, Proposed Timber Harvesting, Ecosystem Burning, Road Construction and Reconstruction, Implementation, Lolo National Forest, Superior Ranger District, Mineral County, MT.

Summary: While the FEIS was largely responsive to EPA's comments on the DEIS, EPA continue to express concerns about timber harvests on erosive soils, wetland impacts, use of weed control chemicals, and the level of monitoring proposed to identify actual project impacts.

ERP No. F-NOA-A91066-00 Tilefish Fishery Management Plan (FMP), (Lopholatilus chamaeleonticeps), To Prevent Overfishing and to Rebuild the Resource of Tilefish, Located along the Atlantic Ocean.

Summary: EPA had environmental concerns about the proposed regulations and the sufficiency of the information in the document. EPA's concern included the adequacy of the mitigation measures and the impacts of trawling on Tilefish EFH.

ERP No. FS-AFS-L60104-WA Huckleberry Land Exchange Consolidate Ownership and Enhance Future Conservation and Management, Updated Information, Proposal to Exchange Land and Mineral Estates, Federal Land and Non-Federal Land, Mt. Baker-Snoqualmie National Forest, Skagit, Snohomish, King, Pierce, Kittitas, and Lewis Counties, WA.

Summary: No formal comment letter was sent to the preparing agency.

Dated: May 15, 2001.
Joseph C. Montgomery,
Director, NEPA Compliance Division, Office of Federal Activities.

[FR Doc. 01-12569 Filed 5-17-01; 8:45 am]

BILLING CODE 6560-50-M